DEPARTMENT OF DEFENSE

Department of the Navy

Extension of Public Comment Period for the Draft Supplemental Environmental Impact Statement for the Guam and Commonwealth of the Northern Mariana Islands Military Relocation (2012 Roadmap Adjustments)

AGENCY: Department of the Navy, DOD.

ACTION: Notice.

SUMMARY: On April 18, 2014, the Department of Navy (DoN) published a Notice of Availability and Notice of Public Meetings, including a request for public comments, on the Draft Supplemental Environmental Impact Statement (SEIS) for the Guam and Commonwealth of the Northern Mariana Islands Military Relocation (2012 Adjustment)(79 FR 21907, April 18, 2014). The purpose of this notice is to announce an extension of the 60-day public comment period. The public comment period will be extended by 15 days to end on July 1, 2014 Eastern Daylight Time (E.D.T.) [July 2, 2014, Chamorro Standard Time (ChST)].

DATES: The extended 75-day public comment period for the Draft SEIS began on April 18, 2014, EDT [April 19, 2014, ChST) with the publication of the Notice of Availability in the Federal Register by the U.S. Environmental Protection Agency, and with this extension, will end on July 1, 2014, EDT [July 2, 2014, ChST].

ADDRESSES: The public may provide comments through the project Web site at http://guambuildupeis.us, or by mail at: Joint Guam Program Office Forward, P.O. Box 153246, Santa Rita, Guam 96915. Mailed comments should be postmarked no later than July 1, 2014, EDT [July 2, 2014, ChST] to ensure they are considered.

The Draft SEIS was distributed to Federal, state, and local agencies, elected officials, and other interested individuals and organizations. The Draft SEIS is available for public review at http://guambuildupeis.us and at the following libraries: University of Guam Robert F. Kennedy Memorial Library, Government Documents, Tan Siu Lin Building, UOG Station, 303 University Drive, Mangilao, Guam 96923; and the Nieves M. Flores Memorial Library, 254 Martyr Street Hagatna, Guam 96910. The public may request copies of the Draft SEIS Executive Summary from the Joint Guam Program Office Forward, P.O. 153246, Santa Rita, Guam 96915.

SUPPLEMENTARY INFORMATION: The DoN's proposed action is to construct and operate a live-fire training range complex, a main cantonment area, including family housing, and associated infrastructure in support of the Guam Military Relocation. The DoN recognizes that public comments are an essential part of the National Environmental Policy Act (NEPA) process. Accordingly, the DoN established a 60-day public comment period in lieu of the 45-day period required by NEPA. In response to public comments, the DoN has extended the Draft SEIS 60-day public comment period by an additional 15 days to July 1, 2014, EDT [July 2nd, 2014, ChST].

FOR FURTHER INFORMATION CONTACT: Commander Curtis Duncan, Joint Guam Program Office, at 703-602-3825. On Guam, contact Major Darren Alvarez, Joint Guam Program Office, Forward, at 671-339-3337.

Dated: June 4, 2014.
P.A. Richelmi,
Lieutenant, Office of the Judge Advocate General, U.S. Navy, Alternate Federal Register Liaison Officer.

[FR Doc. 2014-13494 Filed 6-9-14; 8:45 am]

BILLING CODE 3810-FF-P